DEPARTMENT OF ENERGY

Energy Information Administration

Agency Information Collection Extension

AGENCY: U.S. Energy Information Administration (EIA), Department of Energy (DOE).

ACTION: Notice and request for comments.

SUMMARY: EIA requests a three-year extension, with changes, of the Petroleum Marketing Program as required under the Paperwork Reduction Act of 1995. EIA's petroleum marketing survey program collects volumetric and price information needed for determining the supply of and demand for crude oil and refined petroleum products.

DATES: EIA must receive all comments on this proposed information collection no later than April 22, 2019. If you anticipate any difficulties in submitting your comments by the deadline, contact the person listed in the ADDRESSES section of this notice as soon as possible.

ADDRESSES: Send your comments to Tammy Heppner, U.S. Energy Information Administration, Mail Stop EI-25, 1000 Independence Avenue SW, Washington, DC 20585. Submission by email tammy.heppner@eia.gov is recommended.

FOR FURTHER INFORMATION CONTACT: Tammy Heppner (202) 586-4748, email: tammy.heppner@eia.gov. The forms and instructions are available on EIA's website at http://www.eia.gov/survey/notice/marketing2019.php.

SUPPLEMENTARY INFORMATION: This information collection request contains:

(1) OMB No. 1905-0174

(2) Information Collection Request Title: Petroleum Marketing Program;

(3) Type of Request: Renewal with changes;

(4) Purpose: These surveys collect volume and price information on crude oil and refined petroleum products. These data are published by EIA on its website, at http://www.eia.gov. The Petroleum Marketing Program consists of the following surveys: EIA-14 Refiners' Monthly Cost Report;

EIA-182 Domestic Crude Oil First Purchase Report;

EIA-782A Refiners'/Gas Plant Operators' Monthly Petroleum Product Sales Report; EIA-782C Monthly Report of Prime Supplier Sales of Petroleum Products Sold For Local Consumption;

EIA-821 Annual Fuel Oil and Kerosene Sales Report;

EIA-856 Monthly Foreign Crude Oil Acquisition Report;

EIA-863 Petroleum Product Sales Identification Survey;

EIA-877 Winter Heating Fuels Telephone Survey;

EIA-878 Motor Gasoline Price Survey;

EIA-888 On-Highway Diesel Fuel Price Survey.

(4a) Proposed Changes to Information Collection: EIA proposes to protect the information collected on Form EIA-877 Winter Heating Fuels Telephone Survey under the Confidential Information Protection and Statistical Efficiency Act of 2002 (CIPSEA). CIPSEA provides legal authority for the principal federal statistical agencies to protect the identifiability of information submitted under a pledge of confidentiality and collected for statistical purposes only. It provides strong protection that the reported information will be held in confidence and used only for statistical purposes. By limiting the use to statistical purposes, the EIA-877 survey data will not be used against such respondents in any nonstatistical government action (e.g., administrative, regulatory, or law enforcement) or for any other nonstatistical purpose. EIA proposes to protect information reported on Form EIA-877 under CIPSEA 5 U.S.C. Section 552 (b)(3) using the following confidentiality pledge:

“The information you provide on Form EIA-877 will be used for statistical purposes only and is confidential by law. Per the Federal Cybersecurity Enhancement Act of 2015, Federal information systems are protected from malicious activities through cybersecurity screening of transmitted data. Every EIA employee, as well as every agent, is subject to a jail term, a fine, or both if he or she makes public any identifiable information you reported.”

(5) Annual Estimated Number of Respondents: 11,372:

EIA-14 has 69 respondents;

EIA-182 has 106 respondents;

EIA-782A has 100 respondents;

EIA-782C has 202 respondents;

EIA-821 has 2,900 respondents;

EIA-856 has 42 respondents;

EIA-863 has 4,250 respondents;

EIA-877 has 2,300 respondents;

EIA-878 has 1,000 respondents;

EIA-888 has 403 respondents.

(6) Annual Estimated Number of Total Responses: 146,134;

(7) Annual Estimated Number of Burden Hours: 50,755;

(8) Annual Estimated Reporting and Recordkeeping Cost Burden: $3,756,885 (50,755 annual burden hours multiplied by $74.02 per hour). EIA estimates that there are no additional costs to respondents associated with the surveys other than the costs associated with the burden hours since the information is maintained during normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on February 13, 2019.
Nanda Srinivasan,
Director, Office of Survey Development and Statistical Integration, U. S. Energy Information Administration.

[FR Doc. 2019-02649 Filed 2-15-19; 8:45 am]

BILLING CODE 6450-01-P